ENVIRONMENTAL PROTECTION AGENCY

40 CFR Part 80

[AMS-FRL-7265-4]

RIN 2060-AJ71

Control of Air Pollution From New Motor Vehicles; Second Amendment to the Tier 2/Gasoline Sulfur Regulations; Partial Withdrawal of Direct Final Rule

AGENCY: Environmental Protection Agency (EPA).

ACTION: Partial withdrawal of direct final rule.

SUMMARY: Due to receipt of adverse comments, EPA is withdrawing certain amendments that were included in the direct final rule published on June 12, 2002 (67 FR 40169), related to the Tier 2/Gasoline Sulfur program. The only provisions being withdrawn are the changes to the section concerning the generation of credits beginning in 2004. Because these provisions are being withdrawn, the existing provisions regarding this matter remain in effect. We will address the adverse comments in a subsequent final action based on the parallel proposal published on June 12, 2002 (67 FR 40256).

DATES: The following provisions of the direct final rule published at 67 FR 40169 (June 12, 2002) are withdrawn as of August 26, 2002:

1. The revision to 40 CFR 80.310(a),

2. The amendment of 40 CFR 80.310(b), and

3. The addition of 40 CFR 80.310(d).

ADDRESSES: All comments and materials relevant to today's action are contained in Public Docket No. A-97-10 at the following address: EPA Docket Center (EPA/DC), Public Reading Room, Room B102, EPA West Building, 1301 Constitution Avenue, NW., Washington, DC. Dockets may be inspected from 8:30 a.m. to 4:30 p.m., Monday through Friday, except on government holidays. You can reach the Air Docket by telephone at (202) 566-1742 and by facsimile at (202) 566-1741. You may be charged a reasonable fee for photocopying docket materials, as provided in 40 CFR part 2.

FOR FURTHER INFORMATION CONTACT: Mary Manners, U.S. EPA, National Vehicle and Fuels Emission Laboratory, Assessment and Standards Division, 2000 Traverwood, Ann Arbor, MI 48105; telephone (734) 214-4873, fax (734) 214-4051, e-mail: manners.mary@epa.gov.

SUPPLEMENTARY INFORMATION: We stated in the direct final rule published at 67 FR 40169 (June 12, 2002) that if we received adverse comment on one or more distinct amendments, paragraphs, or sections of the rulemaking by July 12, 2002, we would publish a timely withdrawal in the Federal Register indicating which provisions would become effective on September 10, 2002, and which provisions would be withdrawn due to adverse comment. We received adverse comments on the amendments to 40 CFR 80.310.

The direct final rule eliminated the anti-backsliding provision under the Geographic Phase-in Area (GPA) program for GPA gasoline. Specifically, we replaced the variable average standard for GPA gasoline ¹ with a flat average standard of 150 ppm sulfur for 2004 through 2006. In addition, to prevent the generation of windfall credits by refineries that have existing gasoline sulfur baselines below 150 ppm sulfur (but now will have an average GPA standard of 150 ppm), we also amended § 80.310, “How are credits generated beginning in 2004?”. As stated in the preamble to the direct final rule, we believed that the amendment to § 80.310 would allow for the generation of credits during the 2004 through 2006 period comparable to the number of credits that could have been generated under the Tier 2 rule (65 FR 6698, February 10, 2000), even though the standard for all GPA gasoline will be 150 ppm sulfur.

¹ The anti-backsliding requirement defined the average standard for GPA gasoline as the least of (1) 150 ppm, (2), the refinery's or importer's 1997/1998 average gasoline sulfur level, calculated in accordance with § 80.295, plus 30 ppm, or (3) the lowest average sulfur content for any year in which the refinery generated allotments or credits under § 80.275(a) or § 80.305 plus 30 ppm, not to exceed 150 ppm.

As a result of the adverse comments received, we are withdrawing all amendments to § 80.310. We intend to consider the issues raised by the comments in a final action based on the concurrent notice of proposed rulemaking (67 FR 40256). With the exception of the amendments to § 80.310, all other amendments will become effective on September 10, 2002 as provided in the June 12, 2002 direct final rule.

List of Subjects in 40 CFR Part 80

Environmental protection, Fuel additives, Gasoline, Imports, Labeling, Motor vehicle pollution, Penalties, Reporting and recordkeeping requirements.

Dated: August 16, 2002.
Robert Brenner,
Assistant Administrator for Office of Air and Radiation.

[FR Doc. 02-21662 Filed 8-23-02; 8:45 am]

BILLING CODE 6560-50-P